AFRICAN DEVELOPMENT FOUNDATION

Public Quarterly Meeting of the Board of Directors

AGENCY: United States African Development Foundation.

ACTION: Notice of meeting.

SUMMARY: The US African Development Foundation (USADF) will hold its quarterly meeting of the Board of Directors to discuss the agency's programs and administration.

DATES: The meeting date is Wednesday, January 29th, 2014, 11:00 a.m. to 1:00 p.m.

ADDRESSES: The meeting location is 1400 I Street Northwest, Suite #1000 (Main Conference Room), Washington, DC 20005-2246.

FOR FURTHER INFORMATION CONTACT: Rabayah Akhter, 202-233-8811.

Authority: Public Law 96-533 (22 U.S.C. 290h).

Dated: January 8, 2014.
Shari Berenbach,
President and CEO.

[FR Doc. 2014-00559 Filed 1-14-14; 8:45 am]

BILLING CODE 6117-01-P